FEDERAL RESERVE SYSTEM

Agency Information Collection Activities: Announcement of Board Approval Under Delegated Authority and Submission to OMB

SUMMARY:

Background

Notice is hereby given of the final approval of a proposed information collection by the Board of Governors of the Federal Reserve System (Board) under OMB delegated authority, as per 5 CFR 1320.16 (OMB Regulations on Controlling Paperwork Burdens on the Public). Board-approved collections of information are incorporated into the official OMB inventory of currently approved collections of information. Copies of the OMB 83-Is and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer—Michelle Long—Division of Research and Statistics, Board of Governors of the Federal Reserve System, Washington, DC 20551 (202-452-3829). OMB Desk Officer-Mark Menchik—Office of Information and Regulatory Affairs, Office of Management and Budget, New Executive Office Building, Room 10235, Washington, DC 20503, or e-mail to mmenchik@omb.eop.gov.

Final approval under OMB delegated authority of the revision, without extension, of the following reports:

Report titles: Report of Changes in Organizational Structure, Report of Changes in FBO Organizational Structure.

Agency form number: FR Y-10, FR Y-10F, and FR Y-10S.

OMB control number: 7100-0297.

Frequency: Event-generated.

Reporters: Bank holding companies (BHCs), foreign banking organizations (FBOs), and state member banks unaffiliated with a BHC.

Annual reporting hours: 18,004 hours.

Estimated average hours per response: 1 hour.

Number of respondents: 5,510.

General description of report: This information collection is mandatory (12 U.S.C. 248(a)(1), 602, 611a, 1843(k), 1844(c)(1)(A), 3106(a) and 12 CFR 211.13(c), 225.5(b), and 225.87). Individual respondent data are not considered as confidential. However, a company may request confidential treatment pursuant to sections (b)(4) and (b)(6) of the Freedom of Information Act (5 U.S.C. 552(b)(4) and (b)(6)).

Abstract: The FR Y-10 is an event-generated report filed by top-tier domestic BHCs, including financial holding companies (FHCs), and state member banks unaffiliated with a BHC or FHC, to capture changes in their regulated investments and activities. The Federal Reserve uses the data to monitor structure information on subsidiaries and regulated investments of these entities engaged in both banking and nonbanking activities.

The FR Y-10F is an event-generated report filed by FBOs, including FHCs, to capture changes in their regulated investments and activities. The Federal Reserve uses the data to ensure compliance with U.S. banking laws and regulations and to determine the risk profile of the FBO structure.

Current action: On September 29, 2005, the Federal Reserve published a notice soliciting comments on the proposed supplement (70 FR 56897). The comment period ended on November 28, 2005. The Federal Reserve received one general comment letter; however, the proposal is unchanged from the one the Board initially approved.

In the comment letter, a small commercial bank generally questioned the usefulness of the proposed supplement for supervisory purposes. As described in the initial Federal Register notice, the data would be used to enhance the Federal Reserve's ability to compare regulatory data to market data and to increase the Federal Reserve's effectiveness in assessing banking organizations' compliance with the Sarbanes-Oxley Act of 2002 (SOX). Although the commenter asserted that the Federal Reserve was trying to make non-public organizations comply with SOX, non-public organizations are only required to check two boxes indicating that they have no data to report. Therefore, SOX compliance would not be required and the burden for non-public organizations should be minimal.

As proposed, the Federal Reserve will add a Supplement to the Reports of Changes in Organizational Structure (FR Y-10S) to enhance the Federal Reserve's ability to compare regulatory data to market data and to increase the Federal Reserve's effectiveness in assessing banking organizations' compliance with Sarbanes-Oxley Act of 2002 (SOX). The initial collection of this data will be as of December 31, 2005.

The FR Y-10S panel will comprise top-tier BHCs, FBOs, and state member banks that are not controlled by a BHC. All of these organizations currently file either the FR Y-10 or FR Y-10F. However, FBOs will not be required to report data for Schedule B.

Board of Governors of the Federal Reserve System, December 7, 2005.
Jennifer J. Johnson,
Secretary of the Board.

[FR Doc. E5-7239 Filed 12-12-05; 8:45 am]

BILLING CODE 6210-01-P